DEPARTMENT OF COMMERCE

National Telecommunications and Information Administration

Proposed Information Collection; Comment Request; Low-Power Television and Translator Digital-to-Analog Conversion Program Application Form

ACTION: Notice.

SUMMARY: The U.S. Department of Commerce, as part of its continuing efforts to reduce paperwork and respondent burden, invites the general public and other Federal agencies to comment on a proposed information collection, as required by the Paperwork Reduction Act of 1995, Public Law 104-13 (44 U.S.C. 3506(c)(2)(A)).

DATES: Written comments must be submitted on or before July 6, 2007.

ADDRESSES: Direct all written comments to Diana Hynek, Departmental Paperwork Clearance Officer, U.S. Department of Commerce, Room 6625, 1401 Constitution Avenue, NW., Washington, DC 20230 (or via the Internet dhynek@doc.gov).

FOR FURTHER INFORMATION CONTACT: Requests for additional information or copies of the information collection instrument(s) and instructions should be directed to Clifton Beck, National Telecommunications and Information Administration (NTIA), Room 4888, U.S. Department of Commerce, 1401 Constitution Avenue, NW., Washington, DC 20230.

SUPPLEMENTARY INFORMATION:

I. Abstract

The purpose of the Low-Power Television and Translator Digital-to-Analog Conversion Program is to assist each eligible low-power television station to receive compensation toward the cost of the purchase of a digital-to-analog conversion device that enables it to convert the incoming digital signal of its corresponding full-power television station to analog format for transmission on the low-power television station's analog channel.

“The term ‘low-power television station’ means a low-power television broadcast station, Class A television station, television translator station, or television booster station—

(1) that is itself broadcasting exclusively in analog format; and

(2) that has not purchased a digital-to-analog conversion device prior to the date of enactment of the Digital Television Transition and Public Safety Act of 2005” (See Section 3008 of the Deficit Reduction Act of 2005, Pub. L. 109-171, 120 Stat. 4, 25 (2006)).

This information collection requests information necessary to determine the identity and the number of potentially eligible and priority applicant stations, and the type of equipment required. The information collection also requests optional information about the number of potentially eligible and priority applicant stations, and the type of equipment required which NTIA will use to design the Low-Power Television and Translator Upgrade Program, which is a follow-on program to the Low-Power Television and Translator Digital-to-Analog Conversion Program and is directed at the same applicant pool.

II. Method of Collection

The method of collection will be electronic by the Internet.

III. Data

OMB Control Number: None.

Form Number: None.

Type of Review: Regular submission.

Affected Public: Business or other for-profit organizations, not-for-profit institutions, state or local government agencies, individuals or households.

Estimated Number of Respondents: 4,000.

Estimated Time Per Response: 1 hour.

Estimated Total Annual Burden Hours: 4,000.

Estimated Total Annual Cost to the Public: $0.

IV. Request for Comments

Comments are invited on: (a) Whether the proposed collection of information is necessary for the proper performance of the functions of the agency, including whether the information will have practical utility; (b) the accuracy of the agency's estimate of the burden (including hours and cost) of the proposed collection of information; (c) ways to enhance the quality, utility, and clarity of the information to be collected; (d) ways to minimize the burden of the collection of information on respondents, e.g., the use of automated collection techniques or other forms of information technology.

Comments submitted in response to this notice will be summarized and/or included in the request for OMB approval of the information collection; they also will become a matter of public record.

Dated: May 1, 2007.
Gwellnar Banks,
Management Analyst, Office of the Chief Information Officer.

[FR Doc. E7-8629 Filed 5-4-07; 8:45 am]

BILLING CODE 3510-60-P